DEPARTMENT OF TRANSPORTATION

Federal Aviation Administration

14 CFR Part 39

[Docket No. 2002-CE-26-AD; Amendment 39-13141; AD 2003-09-12]

RIN 2120-AA64

Airworthiness Directives; Raytheon Aircraft Company Model 1900D Airplanes

AGENCY: Federal Aviation Administration, DOT.

ACTION: Final rule.

SUMMARY: This amendment adopts a new airworthiness directive (AD) that applies to certain Raytheon Aircraft Company (Raytheon) Model 1900D airplanes. This AD requires you to accomplish a one-time inspection for missing rivets on certain areas of the airplane and, if necessary, install rivets. This AD is the result of Raytheon identifying several instances of missing rivets on these airplanes. The actions specified by this AD are intended to detect and correct an understrength condition in the fuselage, which could result in the failure of the fuselage. Such failure could lead to loss of control of the airplane in flight.

DATES: This AD becomes effective on June 27, 2003.

The Director of the Federal Register approved the incorporation by reference of certain publications listed in the regulations as of June 27, 2003.

ADDRESSES: You may get the service information referenced in this AD from Raytheon Aircraft Company, 9709 E. Central, Wichita, Kansas 67201-0085; telephone: (800) 429-5372 or (316) 676-3140. You may view this information at the Federal Aviation Administration (FAA), Central Region, Office of the Regional Counsel, Attention: Rules Docket No. 2002-CE-26-AD, 901 Locust, Room 506, Kansas City, Missouri 64106; or at the Office of the Federal Register, 800 North Capitol Street, NW., suite 700, Washington, DC.

FOR FURTHER INFORMATION CONTACT: Mr. Steven E. Potter, Aerospace Engineer, Wichita Aircraft Certification Office, FAA, 1801 Airport Road, Wichita, Kansas 67209; telephone: (316) 946-4124; facsimile: (316) 946-4107.

SUPPLEMENTARY INFORMATION:

Discussion

What events have caused this AD? The FAA has received reports from Raytheon that during manufacturing rivets were not installed in the following locations:

—Lower frame forward of the airstair door below the pilot's floor;

—Forward of the upper forward corner of the airstair door;

—The bulkhead forward of the cargo door below floor level; and

—The lower fuselage panel aft of the wing.

These rivets must be installed for the fuselage to carry the ultimate design load. Without the rivets, these areas are understrength.

What is the potential impact if FAA took no action? The understrength condition in the fuselage could result in the failure of the fuselage. Such failure could lead to loss of control of the airplane in flight.

Has FAA taken any action to this point? We issued a proposal to amend part 39 of the Federal Aviation Regulations (14 CFR part 39) to include an AD that would apply to certain Raytheon Model 1900D airplanes. This proposal was published in the Federal Register as a notice of proposed rulemaking (NPRM) on December 31, 2002 (67 FR 79891). The NPRM proposed to require you to accomplish a one-time inspection for missing rivets on certain areas of the airplane and, if necessary, install rivets.

Was the public invited to comment? The FAA encouraged interested persons to participate in the making of this amendment. We did not receive any comments on the proposed rule or on our determination of the cost to the public.

FAA's Determination

What is FAA's final determination on this issue? After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

Cost Impact

How many airplanes does this AD impact? We estimate that this AD affects 370 airplanes in the U.S. registry.

What is the cost impact of this AD on owners/operators of the affected airplanes? We estimate the following costs to accomplish the inspection:

Labor cost | Parts cost | Total cost per airplane | Total cost U.S. operators
8 workhours × $60 per hour = $480 | No parts required | $480 | $480 × 370 = $177,600

We estimate the following costs to accomplish any necessary rivet installation that will be required based on the results of the inspection. We have no way of determining the number of airplanes that may need such installation:

Labor cost | Parts cost | Total cost per airplane
15 workhours × $60 per hour = $900 | $25 | $925

Compliance Time of This AD

What is the compliance time of this AD? The compliance time of this AD is within the next 1,200 hours time-in-service (TIS) or 1 year after the effective date of this AD, whichever occurs first.

Why is the compliance time of this AD presented in both hours TIS and calendar time? The usage of these airplanes varies widely because operators or lessors are cycling these airplanes between airplane storage and flight operations. The unsafe condition on these airplanes is not a direct result of the number of times the airplane is operated. For this reason, FAA has determined that the compliance time of this AD should be specified in both hours TIS and calendar time in order to ensure this condition is not allowed to go uncorrected over time.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2003-09-12 Raytheon Aircraft Company: Amendment 39-13141; Docket No. 2002-CE-26-AD.

(a) What airplanes are affected by this AD? This AD affects Model 1900D airplanes, that are certificated in any category, with the following serial numbers: UE-1 through UE-50, UE-52 through UE-350, UE-352 through UE-358, UE-360, UE-361, UE-363 through UE-369, UE-371 through UE-379, UE-381, UE-382, UE-385, UE-386, and UE-394.

(b) Who must comply with this AD? Anyone who wishes to operate any of the airplanes identified in paragraph (a) of this AD must comply with this AD.

(c) What problem does this AD address? The actions specified by this AD are intended to detect and correct an understrength condition in the fuselage, which could result in the failure of the fuselage. Such failure could lead to loss of control of the airplane in flight.

(d) What actions must I accomplish to address this problem? To address this problem, you must accomplish the following, unless previously accomplished:

Actions | Compliance | Procedures
(1) Inspect for missing rivets in the following locations: (i) Lower frame forward of the airstair door below the pilot's floor; (ii) Forward of the upper forward corner of the airstair door; (iii) The bulkhead forward of the cargo door below floor level; and (iv) The lower fuselage panel aft of the wing. | Within the next 1,200 hours time-in-service (TIS) or 1 year after June 27, 2003 (the effective date of this AD), whichever occurs first. | In accordance with the Accomplishment Instructions of Raytheon Aircraft Mandatory Service Bulletin No.: SB 53-3046, Issued: February 2002.
(2) Install rivets where rivets are found missing. | Prior to further flight after the inspection required in paragraph (d)(1) of this AD. | In accordance with the Accomplishment Instructions of Raytheon Aircraft Mandatory Service Bulletin No.: SB 53-3046, Issued: February 2002.

(e) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Mr. Steven E. Potter, Aerospace Engineer, Wichita Aircraft Certification Office, FAA, 1801 Airport Road, Wichita, Kansas 67209; telephone: (316) 946-4124; facsimile: (316) 946-4107.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Raytheon Aircraft Mandatory Service Bulletin No.: SB 53-3046, Issued: February 2002. The Director of the Federal Register approved this incorporation by reference under 5 U.S.C. 552(a) and 1 CFR part 51. You may get copies from Raytheon Aircraft Company, 9709 E. Central, Wichita, Kansas 67201-0085; telephone: (800) 429-5372 or (316) 676-3140. You may view copies at the FAA, Central Region, Office of the Regional Counsel, 901 Locust, Room 506, Kansas City, Missouri, or at the Office of the Federal Register, 800 North Capitol Street, NW., suite 700, Washington, DC.

(i) When does this amendment become effective? This amendment becomes effective on June 27, 2003.

Issued in Kansas City, Missouri, on April 25, 2003.
James E. Jackson,
Acting Manager, Small Airplane Directorate, Aircraft Certification Service.

[FR Doc. 03-10847 Filed 5-5-03; 8:45 am]

BILLING CODE 4910-13-P